DEPARTMENT OF COMMERCE

International Trade Administration

[A-823-817]

Prestressed Concrete Steel Wire Strand From Ukraine: Rescission of Antidumping Duty Administrative Review; 2022-2023

AGENCY: Enforcement and Compliance, International Trade Administration, Department of Commerce.

SUMMARY: The U.S. Department of Commerce (Commerce) is rescinding the administrative review of the antidumping duty (AD) order on prestressed concrete steel wire strand (PC strand) from Ukraine for the period of review (POR) June 1, 2022, through May 31, 2023.

DATES: Applicable December 1, 2023.

FOR FURTHER INFORMATION CONTACT: Laura Griffith, AD/CVD Operations, Office III, Enforcement and Compliance, International Trade Administration, U.S. Department of Commerce, 1401 Constitution Avenue NW, Washington, DC 20230; telephone: (202) 482-6430.

SUPPLEMENTARY INFORMATION:

Background

On June 1, 2023, Commerce published in the Federal Register a notice of opportunity to request an administrative review of the AD order on PC strand from Ukraine.¹ On June 30, 2023, Insteel Wire Products Company, Sumiden Wire Products Corporation, and Wire Mesh Corporation (collectively, the petitioners) submitted a timely request that Commerce conduct an administrative review.²

¹ See Antidumping or Countervailing Duty Order, Finding, or Suspended Investigation; Opportunity To Request Administrative Review and Join Annual Inquiry Service List, 88 FR 35835 (June 1, 2023).

² See Petitioner's Letter, “Petitioners' Request for Initiation of Second Administrative Review,” dated June 30, 2023.

On August 3, 2023, Commerce published in the Federal Register a notice of initiation of administrative review with respect to imports of PC strand exported and/or produced by PJSC Stalkanat, in accordance with section 751(a) of the Tariff Act of 1930, as amended (the Act), and 19 CFR 351.221(c)(1)(i).³ On August 7, 2023, PJSC Stalkanat filed a no shipments certification for the POR.⁴ On August 17, 2023, we placed on the record U.S. Customs and Border Protection (CBP) data for entries of PC strand from Ukraine during the POR, and invited interested parties to comment.⁵ On August 24, 2023, PJSC Stalkanat submitted comments on the CBP data. No interested party submitted rebuttal comments to Commerce.

³ See Initiation of Antidumping and Countervailing Duty Administrative Reviews, 88 FR 51271 (August 3, 2023).

⁴ See PJSC Stalkanat's Letter, “No Shipments Certification,” dated August 7, 2023.

⁵ See Memorandum, “U.S. Customs and Border Protection Query and Comment Period Deadline,” dated August 17, 2023.

On September 21, 2023, Commerce notified all interested parties of its intent to rescind the instant review, in whole, because there were no eligible reviewable, suspended entries of subject merchandise by PJSC Stalkanat during the POR and invited interested parties to comment.⁶ PJSC Stalkanat submitted comments in favor of recission.⁷ No other interested party submitted comments to Commerce.

⁶ See Memorandum, “Notice of Intent to Rescind Review,” dated September 21, 2023.

⁷ See PJSC Stalkanat's Letter, “Comments on Recission,” dated September 22, 2023.

Rescission of Review

Pursuant to 19 CFR 351.213(d)(3), it is Commerce's practice to rescind an administrative review of an AD order when there are no reviewable entries of subject merchandise during the POR for which liquidation is suspended.⁸ Normally, upon completion of an administrative review, the suspended entries are liquidated at the AD assessment rate calculated for the review period.⁹ Therefore, for an administrative review to be conducted, there must be at least one reviewable, suspended entry that Commerce can instruct CBP to liquidate at the AD assessment rate calculated for the review period.¹⁰ As noted above, there were no eligible reviewable entries of subject merchandise for PJSC Stalkanat during the POR. Accordingly, in the absence of suspended entries of subject merchandise eligible for review during the POR, we are hereby rescinding this administrative review, in its entirety, in accordance with 19 CFR 351.213(d)(3).

⁸ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

⁹ See 19 CFR 351.212(b)(1).

¹⁰ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: November 27, 2023.
James Maeder,
Deputy Assistant Secretary for Antidumping and Countervailing Duty Operations.

[FR Doc. 2023-26410 Filed 11-30-23; 8:45 am]

BILLING CODE 3510-DS-P